DEPARTMENT OF HOUSING AND URBAN DEVELOPMENT

[Docket No. FR-5915-N-02]

60 Day Notice of Proposed Information Collection for Public Comment on the: ConnectHome Use and Barriers Focus Groups

AGENCY: Office of Policy Development and Research, HUD.

ACTION: Notice of proposed information collection.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 31, 2016.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: ConnectHome Use and Barriers Focus Groups.

OMB Approval Number: Pending.

Type of Request: New.

Form Number: Focus groups.

Description of the need for the information and proposed use: President Barack Obama and HUD Secretary Julián Castro announced ConnectHome on July 15, 2015, as the next step in the Obama Administration's efforts to increase access to high-speed Internet access for all Americans. Through public-private partnerships, nonprofit organizations, businesses, and Internet service providers (ISPs), ConnectHome will offer high-speed Internet service, devices, technical training, and digital literacy programs to residents of HUD-assisted housing in 28 pilot communities, including the Choctaw Nation of Oklahoma.

As communities begin to implement ConnectHome in 2016 and connect residents to Internet access within their homes, these focus groups will illuminate how families are taking advantage of ConnectHome as well as barriers they may encounter. The focus groups will explore ConnectHome subscribers' previous broadband access, current and planned patterns of use, and current and anticipated benefits of their at-home high-speed Internet access. Questions will emphasize educational Internet use such as completing homework, connecting parents with educators, and applying to college. In addition, the focus groups will explore barriers to signing up for ConnectHome, securing devices, and using the Internet.

Respondents (i.e. affected public): ConnectHome-eligible residents in 5 of the 28 pilot communities.

Estimated Number of Respondents: 45 total—9 respondents each at 5 ConnectHome sites.

Frequency of Response: One time.

Average Hours per Response: 1.5 hours.

Total Estimated Burden: 67.5 hours.

Respondents' Obligation: Voluntary.

B. Solicitation of Public Comment

This notice solicits comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: Section 3507 of the Paperwork Reduction Act of 1995, 44 U.S.C. Chapter 35.

Dated: March 22, 2016.
Katherine M. O'Regan,
Assistant Secretary, Office of Policy Development and Research.

[FR Doc. 2016-07063 Filed 3-28-16; 8:45 am]

BILLING CODE 4210-67-P